DEPARTMENT OF AGRICULTURE

Natural Resources Conservation Service

Extension of Comment Period for the Natural Resources Conservation Service Conservation Programs Manual—Part 513: Resource Conservation and Development (RC&D) Program

AGENCY: Natural Resources Conservation Service (NRCS), U. S. Department of Agriculture.

ACTION: Notice and request for comments.

SUMMARY: This Public Notice announces an extension of the comment period deadline for comments on the draft the Natural Resources Conservation Service Conservation Programs Manual—Part 513: Resource Conservation and Development (RC&D) Program.

DATES: Comments will be received until July 28, 2000. All comments post-marked by July 28, 2000, will be accepted.

ADDRESSES: Address all requests and comments to: Terry D'Addio, National RC&D Program Manager, Natural Resource Conservation Service, 14th & Independence Ave, SW, Room 6013 South Building, Washington, DC, 20250.

FOR FURTHER INFORMATION CONTACT: Terry D'Addio, Natural Resources Conservation Service; telephone: (202) 720-0557; fax: (202) 690-0639, e-mail terry.daddio@usda.gov.

SUPPLEMENTARY INFORMATION: The first Public Notice was released on April 14, 2000. United States Department of Agriculture (USDA) is asking for comments from individuals, private consultants, Tribal, State, and local governments or subgroups thereof, universities, colleges, environmental groups, community development groups, and other organizations. These comments will assist USDA in the policy development and implementation of the Resource Conservation and Development (RC&D) program. This manual is intended for use by the Natural Resources Conservation Service (NRCS) and other USDA staff, conservation partners, State and local field staffs, RC&D Council members, and others that will be developing RC&D applications or participating in the RC&D program. The Conservation Programs Manual: Part 513—RC&D Program is a document intended for use by NRCS and other USDA staff, conservation partners, State and local field staffs, RC&D Council members, and others that either will be developing RC&D applications or participating in the RC&D program. The purpose of this document is to provide policy guidance for the RC&D program, not to establish regulatory requirements. The RC&D Program was authorized to encourage and improve the capability of State and local units of government and local nonprofit organizations in rural areas to plan, develop, and implement programs for resource conservation and development. Through the establishment of RC&D Areas, the program establishes or improves coordination systems in rural communities and builds rural community leadership skills to effectively utilize Federal, State, and local programs for the communities' benefit.

Current program objectives focus on the “quality of life” improvements achieved through natural resources conservation and community development. Such activities lead to sustainable communities, prudent land use, and the sound management and conservation of natural resources.

Assistance is provided, as authorized by the Secretary of Agriculture, to designated RC&D Areas through their organized RC&D Councils, comprised of local leaders. RC&D Councils and their sponsors, in association with State, local, and Federal governments, and non-profit organizations, initiate and lead the planning and implementation of their locally developed RC&D Area plans. Councils also obtain assistance from other local, State, and Federal agencies; private organizations; and foundations.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternative means for communication of program information (braille, large print, and audio tape, etc.) should contact the USDA's Target Center at (202) 720-2600 (voice and TDD).

To file a complaint of discrimination to USDA, write Director, Office of Civil Rights, Room 326-W, Whitten Building, 14th and Independence Avenue, SW, Washington, DC 20250-9410, or call (202) 720-5964 (voice and TDD). The USDA is an equal opportunity provider and employer.

Signed at Washington, DC on June 21, 2000.
Pearlie S. Reed,
Chief, Natural Resources Conservation Service.

[FR Doc. 00-16382 Filed 6-27-00; 8:45 am]

BILLING CODE 3410-16-P